DEPARTMENT OF ENERGY

Federal Energy Regulatory Commission

[Project No. 1858-023]

Beaver City Corporation; Notice Soliciting Scoping Comments

Take notice that the following application has been filed with the Commission and is available for public inspection.

a. Type of Application: Subsequent Minor License.

b. Project No.: P-1858-023.

c. Date filed: July 30, 2021.

d. Applicant: Beaver City Corporation (Beaver City).

e. Name of Project: Beaver City Canyon Plant No. 2 Hydroelectric Project.

f. Location: The existing hydroelectric project is located on the Beaver River, in Beaver County, Utah, about 5 miles east of the city of Beaver. The project currently occupies 10.2 acres of federal land administered by the U.S. Forest Service and 2.4 acres of federal land managed by the U.S. Bureau of Land Management. As proposed, the project would occupy 10.5 acres of federal land administered by the U.S. Forest Service and 2.4 acres of federal land administered by the U.S. Bureau of Land Management.

g. Filed Pursuant to: Federal Power Act 16 U.S.C. 791 (a)-825(r).

h. Applicant Contact: Mr. Jason Brown, Beaver City Manager, 30 West 300 North, Beaver, UT 84713; (435)-438-2451.

i. FERC Contact: Evan Williams, (202) 502-8462, or email at evan.williams@ferc.gov.

j. Deadline for filing scoping comments: May 14, 2022.¹

¹ 18 CFR 385.2007(a)(2) of the Commission's regulations provide that if a filing date falls on a Saturday, Sunday, or federal legal public holiday, then the deadline for filing becomes the next business day.

The Commission strongly encourages electronic filing. Please file all documents using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. Submissions sent via any other carrier must be addressed to: Kimberly D. Bose, Secretary, Federal Energy Regulatory Commission, 12225 Wilkins Avenue, Rockville, Maryland 20852. All filings must clearly identify the project name and docket number on the first page: Beaver City Canyon Plant No. 2 Hydroelectric Project (P-1858-023).

k. This application is not ready for environmental analysis at this time.

l. The existing project consists of: (1) A 15.5-foot-high by 65-foot-wide diversion dam that impounds a small reservoir with a surface area of approximately 0.15 acre and a storage capacity of approximately 1-acre-foot; (2) a 30-inch-diameter, 11,632-foot-long black steel penstock; (3) a 34-foot-long by 41-foot-wide stone powerhouse containing an impulse turbine and one generating unit with an installed capacity of 625 kilowatts; (4) a 4-foot-wide by 150-foot-long tailrace channel; (5) a 12.5-kilovolt, approximately 21,000-foot-long transmission line; and (6) appurtenant facilities. The estimated average annual generation (2012 to 2017) is 2,602.6 megawatt-hours.

Beaver City proposes to abandon the existing: (1) Powerhouse; (2) portion of penstock between the existing powerhouse and proposed new powerhouse; (3) buried line from the turbine generator to the transformer on the west side of the existing powerhouse; (4) old transformer; (5) overhead line from the old transformer to the start of the transmission line on the west bank of the Beaver River; and (6) tailrace. As such, Beaver City proposes to remove approximately 50-feet of the existing penstock, increase the existing project boundary, and construct: (1) A new 40-foot-long by 27-foot-wide metal-walled powerhouse, with a reinforced concrete foundation, to contain one new turbine-generator with an installed capacity of 720 kilowatts; (2) a new approximately 35-foot-long buried line from the new turbine-generator to the new transformer; (3) a new approximately 33-foot-long buried line from the new transformer to a 40-foot-tall intermediate pole of wood and metal construction; (4) a new 120-foot-long overhead line from the intermediate pole to the start of the existing transmission line; and (5) a new 43-foot-long tailrace that tailrace varies from 7.5 feet wide adjacent to powerhouse to 19 feet wide at point of discharge. The new powerhouse, power distribution facilities, and tailrace would be constructed approximately 50 feet upstream (south) of the existing powerhouse, enclosed by new approximately 240 feet of 8-foot-tall chain-link perimeter fence, and the existing powerhouse would be retained within the project boundary as an historic structure.

m. In addition to publishing the full text of this document in the Federal Register. The Commission provides all interested persons an opportunity to view and/or print the contents of this document via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC Online Support at FERCONlineSupport@ferc.gov or call toll-free, (866) 208-3676 or TYY, (202) 502-8659.

n. Register online at https://ferconline.ferc.gov/FERCOnline.aspx to be notified via email of new filings and issuances related to this or other pending projects. For assistance, contact FERC Online Support.

o. Scoping Process.

The Commission staff intends to prepare an Environmental Assessment (EA) for the Canyon Plant No. 2 Hydroelectric Project in accordance with the National Environmental Policy Act. The EA will consider site-specific environmental impacts and reasonable alternatives to the proposed action.

Commission staff does not propose to conduct any on-site scoping meetings at this time. Instead, we are soliciting comments, recommendations, and information, on the Scoping Document (SD) issued on April 14, 2022.

Copies of the SD outlining the subject areas to be addressed in the EA were distributed to the parties on the Commission's mailing list and the applicant's distribution list. Copies of the SD may be viewed on the web at http://www.ferc.gov using the “eLibrary” link. Follow the directions for accessing information in paragraph m. Based on all written comments, a Scoping Document 2 (SD2) may be issued. SD2 may include a revised schedule, as well as a list of issues, identified through the scoping process.

Dated: April 14, 2022.
Debbie-Anne A. Reese,
Deputy Secretary.

[FR Doc. 2022-08463 Filed 4-19-22; 8:45 am]

BILLING CODE 6717-01-P